DEPARTMENT OF JUSTICE

Antitrust Division

Notice Pursuant to the National Cooperative Research and Production Act of 1993—PXI Systems Alliance, Inc.

Notice is hereby given that, on November 22, 2000, pursuant to section 6(a) of the National Cooperative Research and Production Act of 1993, 15 U.S.C. 4301 et seq. (“the Act”), PXI Systems Alliance, Inc. has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are A&T Engineering Technology Center, Mystic, CT; Acqiris, Geneva, SWITZERLAND; Advanced Power Designs, Irvine, CA; Advanced Text Methods, Camberley, Surrey, UNITED KINGDOM; Alphi Technology, Tempe, AZ; Analogic Data Conversion Products, Wakefield, MA; ARVOO Engineering, Woerden, THE NETHERLANDS, ASCOR, Fremont, CA; ATEME, Velizy, FRANCE; B&B Technologies, Albuquerque, NM; Ballard Technology, Inc., Everett, WA; BittWare Research Systems, Concord, NH; Bloomy Controls, Windsor, CT; Bode Enterprises, San Diego, CA; Boulder Instruments, Longmont, CO; BRIME, Courtaboeuf Cedex, FRANCE, C&H Technologies, Austin, TX; CHROMA ATE Inc., Wu-Ku, Taipei Hsien, TAIWAN; ComputerBoards, Middleboro, MA; CORTEST, Willoughby, OH; Data Patterns, Chennai, INDIA; Datappli, Midland, MI; Datum, San Jose, CA; Dolch Computer Systems, Fremont, CA; ERNI Components, Chester, VA; GenRad, Westford, MA; Gespac Corporation, Geneva, SWITZERLAND; Goepel Electronic, Jena, GERMANY, GTE-ERS, Ontario, CA; Innovative Integration, Westlake Village, CA; Kinetic Systems, Lockport, IL; LeCroy, Chestnut Ridge, NY; MAC Panel, High Point, NC; Marconi Integrated Systems, San Diego, CA; MarekMicro GmbH, Sulzbach-Rosenberg, GERMANY; MEN Mikro Elektronik, Nuremberg, GERMANY; National Instruments, Austin, TX; Pickering Interfaces, Grants Pass, OR; PX Instrument Technology, Bray, County Wicklow, IRELAND; Quantum Controls, Plymouth, MI; Racal Instruments, Irvine, CA; Rohde & Schwarz GmbH & Co KG, Munchen, GERMANY; SBS GreenSpring Computers, Menlo Park, CA; Pentair Electronic Packaging, Warwick, RI; Shaanxi Hitech, Xi'an, PEOPLE'S REPUBLIC OF CHINA; Kaparel Corporation, Waterloo, Ontario, CANADA; SRC Corporation, Tokyo, JAPAN; Tracewell Systems, Westerville, OH; TTI Testron, Orlando, FL; Vero/APW Electronics, Southhampton, Hampshire, UNITED KINGDOM; Virginia Panel Corp., Waynesboro, VA; Znyx, Fremont, CA; United Electronic Industries, Inc., Watertown, MA; Modular Integration Technologies, Boonton, NJ; Alfautomazione S.r.l., Lissone, ITALY; and PLD Applications, Gardanne, FRANCE.

The nature and objectives of the venture are to promote the PXI specification as an extension to the CompactPCI industrial computer specification where the PXI specification defines extensions for instrumentation; to sponsor, actively participate in, and support the creation and maintenance of one or more card based specifications for instruments, measurement and automation systems, and/or protocols to enable manufacturers of various devices to achieve interoperability of such devices; to promote the adoption and use of specifications and protocols for card based instrumentation through the development of proof of concept/feasibility demonstrations, pilot/prototype projects, and a free and open exchange of technologies among the Members; and to undertake such other activities as may from time to time be appropriate to further the purposes and achieve the goals set forth above.

Constance K. Robinson,
Director of Operations, Antitrust Division.

[FR Doc. 01-5715 Filed 3-7-01; 8:45 am]

BILLING CODE 4410-11-M